FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 31, 2005.

A. Federal Reserve Bank of Atlanta (Andre Anderson, Vice President) 1000 Peachtree Street, N.E., Atlanta, Georgia 30303:

1. Olivia Lawrence Bennett as executor and beneficiary of the Estate of Valene Bennett; Bennett Family Limited Partnership, Olivia L. Bennett, general partner; Lawrence R. Bennett; Paul Thomas Bennett; Olivia Louise Bennett; Thomas Valene Bennett; Holly Jones Bennett; John V. Bennett; Harry Keith Bennett, Jr.; Lillian Purcell Johnson; Holly Bennett Porter; Carolyn Joyce Bennett, all of Alma, Georgia; to retain voting shares of South Banking Company, Alma, Georgia, and thereby indirectly retain voting shares of Alma Exchange Bank, Alma, Georgia; Peoples State Bank and Trust Company, Baxley, Georgia; Citizens State Bank, Kingsland, Georgia; and Pineland State Bank, Metter, Georgia.

Board of Governors of the Federal Reserve System, March 11, 2005.
Robert deV. Frierson,
Deputy Secretary of the Board.

[FR Doc. 05-5272 Filed 3-16-05; 8:45 am]

BILLING CODE 6210-01-S